DEPARTMENT OF HOUSING AND URBAN DEVELOPMENT

[Docket No. FR-4854-N-03]

Notice of Regulatory Waiver Requests Granted for the Third Quarter of Calendar Year 2003

AGENCY: Office of the Secretary, HUD.

ACTION: Public Notice of the Granting of Regulatory Waivers from July 1, 2003, through September 30, 2003.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2003, and ending on September 30, 2003.

FOR FURTHER INFORMATION CONTACT: For general information about this notice, contact Aaron Santa Anna, Assistant General Counsel for Regulations, Room 10276, Department of Housing and Urban Development, 451 Seventh Street, SW., Washington, DC 20410-0500, telephone (202) 708-3055 (this is not a toll-free number). Hearing- or speech-impaired persons may access this number through TTY by calling the toll-free Federal Information Relay Service at 1-800-877-8339.

For information concerning a particular waiver that was granted and for which public notice is provided in this document, contact the person whose name and address follow the description of the waiver granted in the accompanying list of waivers that have been granted in the third quarter of calendar year 2003.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from July 1, 2003, through September 30, 2003. For ease of reference, the waivers granted by HUD are listed by HUD program office (for example, the Office of Community Planning and Development, the Office of Housing, the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated waiver-grant action.

Should HUD receive additional information about waivers granted during the period covered by this report before the next report is published, the next updated report will include these earlier waivers that were granted, as well as those that occurred during October 1, 2003, through December 31, 2003.

Accordingly, information about approved waiver requests pertaining to HUD regulations is provided in the Appendix that follows this notice.

Dated: March 3, 2004.
Alphonso Jackson,
Acting Secretary.

Appendix

Listing of Waivers of Regulatory Requirements Granted by Offices of the Department of Housing and Urban Development July 1, 2003, Through September 30, 2003

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers please see the name of the contact person that immediately follows the description of the waiver granted.

• Regulation: 24 CFR 91.520(a).

Project/Activity: Request for waiver of the submission deadline for the Consolidated Annual Performance and Evaluation Report (CAPER) of the county of Essex, New Jersey.

Nature of Requirement: The regulation at 24 CFR 91.520(a) requires each grantee to submit a performance report to HUD within 90 days after the close of the grantee's program year.

Granted By: Roy A. Bernardi, Assistant Secretary for Community Planning and Development.

Reasons Waived: Essex County's program year ended on May 31, 2003, and therefore its CAPER was due August 29, 2003. Essex County requested a 45-day extension of its submission deadline to October 13, 2003, because, according to the county, a series of personnel reassignments and reclassification actions had severely hampered its ability to prepare and submit the CAPER in a timely manner. The county noted that the extension would enable the county's Division of Housing and Community Development to present an accurate and comprehensive report. If the deadline for submission of the CAPER had been denied, the county would not have been able to submit a complete and accurate expenditure report on its 2002 program. The CAPER report provides local residents with information on the city's accomplishments during the year, and the report data goes into HUD's national database, which is used for various reporting purposes, including the annual report to Congress. While HUD desires timely reports, it is also interested in ensuring that the performance reports prepared by grantees are complete and accurate.

Date Granted: August 19, 2003.

Contact: Nanci R. Doherty, Special Assistant to the Deputy Assistant Secretary, Community Planning and Development, Department of Housing and Urban Development, 451 Seventh Street, SW., Washington, DC 20410-7000, telephone (202) 708-2565.

• Regulation: 24 CFR 91.520(a).

Project/Activity: Request for waiver of the submission deadline for the CAPER of the city of Baltimore, Maryland.

Nature of Requirement: The regulation at 24 CFR 91.520(a) requires each grantee to submit a performance report to HUD within 90 days after the close of the grantee's program year.

Granted By: Roy A. Bernardi, Assistant Secretary for Community Planning and Development.

Reasons Waived: The city of Baltimore's program year ended on June 30, 2003, and therefore its CAPER was due September 29, 2003. The city requested an extension of its submission deadline to November 21, 2003. The extension was necessary because of two circumstances: (1) additional time needed to account for the completion of 82 CDBG activities dating from the late 1980's through the early 1990s in order to incorporate them into the city's IDIS, and (2) an augmentation of the city's CAPER format in order to increase its accessibility and usefulness to a wider audience. If the deadline for submission of the CAPER had been denied, the city would have been unable to submit a complete and accurate expenditure report for its 2002 program. Furthermore, the CAPER provides local residents with information on accomplishments during the city's program year and HUD with information for its national database, which is used for various reporting purposes, including the annual report to Congress. While HUD desires timely reports, it is also interested in ensuring that grantee performance reports are complete and accurate.

Date Granted: September 22, 2003.

Contact: Nanci R. Doherty, Special Assistant to the Deputy Assistant Secretary, Community Planning and Development, Department of Housing and Urban Development, 451 Seventh Street, SW., Washington, DC 20410-7000, telephone (202) 708-2565.

• Regulation: 24 CFR 91.520(a).

Project/Activity: Request for waiver of the submission deadline for the CAPER of the city of Sioux City, Iowa.

Nature of Requirement: The regulation at 24 CFR 91.520(a) requires each grantee to submit a performance report to HUD within 90 days after the close of the grantee's program year.

Granted By: Roy A. Bernardi, Assistant Secretary for Community Planning and Development.

Reasons Waived: Sioux City's program year ended on June 30, 2003, and therefore its CAPER was due September 29, 2003. The city requested an extension of its submission deadline to November 30, 2003, because of the unexpected retirement of its Community Development Division Manager and the recent temporary loss of its Community Development Project Coordinator due to illness. These employees were responsible for the management of Integrated Disbursement and Information System (IDIS) data and submission of the CAPER, and therefore their absence adversely affected the ability of the city to prepare an accurate and complete CAPER. The city was in the process of hiring a new Community Development Division Manager and expected the return of its Community Development Project Coordinator in the near future. If the deadline for submission of the CAPER report had been denied, the city would not have been able to submit a complete and accurate expenditure report on its 2002 program. The performance report provides local residents with information on the city's accomplishments during the year, and the city enters reporting data into IDIS, HUD's national database, which is used for various reporting purposes, including the annual report to Congress. While HUD is greatly desirous of timely reports, it is also interested in ensuring that the performance reports prepared by grantees are complete and accurate.

Date Granted: September 23, 2003.

Contact: Nanci R. Doherty, Special Assistant to the Deputy Assistant Secretary, Community Planning and Development, Department of Housing and Urban Development, 451 Seventh Street, SW., Washington, DC 20410-7000, telephone (202) 708-2565.

• Regulation: 24 CFR 91.520(a).

Project/Activity: Request for waiver of the submission deadline for the CAPER of the county of Maui, Hawaii.

Nature of Requirement: The regulation at 24 CFR 91.520(a) requires each grantee to submit a performance report to HUD within 90 days after the close of the grantee's program year.

Granted By: Roy A. Bernardi, Assistant Secretary for Community Planning and Development.

Reasons Waived: The county of Maui's program year ended on June 30, 2003, and therefore its CAPER was due September 28, 2003. The county requested an extension of its submission deadline until December 30, 2003. The extension was needed due to the turnover of two of the three CDBG-funded staff positions. Both of the CDBG positions have been filled, but due to the backlog of work additional time was required to prepare the CAPER. If the deadline for submission of the CAPER had been denied, the county would not have been able to submit a complete and accurate expenditure report on its 2002 program. The performance report provides county residents with information on Maui's accomplishments during the year, and the report data goes into HUD's national database, which is used for various reporting purposes, including the annual report to Congress. While HUD desires timely reports, it is also interested in ensuring that the performance reports prepared by grantees are complete and accurate.

Date Granted: September 25, 2003.

Contact: Nanci R. Doherty, Special Assistant to the Deputy Assistant Secretary, Community Planning and Development, Department of Housing and Urban Development, 451 Seventh Street, SW., Washington, DC 20410-7000, telephone (202) 708-2565.

• Regulation: 24 CFR 91.520(a).

Project/Activity. Request for waiver of the submission deadline for the CAPER of the city of Hampton, Virginia.

Nature of Requirement: The regulation at 24 CFR 91.520(a) requires each grantee to submit a performance report to HUD within 90 days after the close of the grantee's program year.

Granted By: Roy A. Bernardi, Assistant Secretary for Community Planning and Development.

Reasons Waived: The city of Hampton's program year ended on June 30, 2003, and therefore its CAPER was due September 29, 2003, for the city's 2002 program year. The city requested an extension of its submission deadline due to the impact of hurricane Isabel, which interrupted the city's normal scheduling of events. The regulation at 24 CFR 91.105(d) requires a grantee to provide citizens not less than 15 days to comment on the CAPER before it is submitted to HUD, and 24 CFR 91.105(e) requires a public hearing to review program performance. Although the city's CAPER had been completed, the city found it necessary to postpone the public hearing on the CAPER due to other urgencies following the storm. Therefore, additional time was required to conduct the public hearing and allow the required 15-day comment period. If an extension of the CAPER deadline had been denied, the city would have been unable to hold a public hearing with local residents to discuss the city's performance and accomplishments, and it would not have been able to allow local residents the opportunity to comment on the CAPER prior to its submission to HUD. While HUD desires timely reports, it is also interested in ensuring that grantee performance reports are accurate and complete and that local residents have the opportunity to review and comment on the grantee's performance.

Date Granted: September 25, 2003.

Contact: Nanci R. Doherty, Special Assistant to the Deputy Assistant Secretary, Community Planning and Development, Department of Housing and Urban Development, 451 Seventh Street, SW., Washington, DC 20410-7000, telephone (202) 708-2565.

• Regulation: 24 CFR 91.520(a).

Project/Activity: Request for waiver of the submission deadline for the CAPER of the cities of Virginia Beach, Norfolk, Petersburg, and Portsmouth and the county of Chesterfield, Virginia. These jurisdictions requested waiver of the submission deadline for their CAPERs. All of the jurisdictions requesting the waiver were located in the storm path of hurricane Isabel.

Nature of Requirement: The regulation at 24 CFR 91.520(a) requires each grantee to submit a performance report to HUD within 90 days after the close of its program year.

Granted By: Roy A. Bernardi, Assistant Secretary for Community Planning and Development.

Reasons Waived: The program year for each of these jurisdictions ended on June 30, 2003, and therefore each grantee's CAPER was due by September 29, 2003. The reason for the requests for an extension of the submission date was the impact of hurricane Isabel, the effects of which interrupted the normal business schedules of the affected communities. As a result, although the jurisdictions acknowledged that each of their CAPERs were completed or near completion, storm-related problems such as power outages, flooding, and other emergencies prevented each community from completing the final document for a timely submission to HUD. If an extension of the CAPER deadline had been denied, these affected communities would have been unable to submit their reports on time due to conditions created by hurricane Isabel. While HUD desires timely reports, it is also interested in ensuring that grantee performance reports are accurate and complete.

Date Granted: September 26, 2003.

Contact: Nanci R. Doherty, Special Assistant to the Deputy Assistant Secretary, Community Planning and Development, Department of Housing and Urban Development, 451 Seventh Street, SW., Washington, DC 20410-7000, telephone (202) 708-2565.

• Regulation: 24 CFR 91.520(a).

Project/Activity. Request for waiver of the submission deadline for the CAPER of the city of Hopewell, Virginia.

Nature of Requirement: The regulation at 24 CFR 91.520(a) requires each grantee to submit a performance report to HUD within 90 days after the close of the grantee's program year.

Granted By: Roy A. Bernardi, Assistant Secretary for Community Planning and Development.

Reasons Waived: The city of Hopewell's program year ended on June 30, 2003, and therefore its CAPER was due September 29, 2003. The city requested an extension of its submission deadline to November 14, 2003. The extension was necessary due to the departure of an experienced staff member, whose position has now been filled. Moving forward, the city estimated it would need an additional 45 days to complete its CAPER. If the deadline for submission of the CAPER had been denied, the city would have been unable to submit a complete and accurate expenditure report for its 2002 program. Furthermore, the CAPER provides local residents with information on accomplishments during the city's program year and HUD with information for its national database, which is used for various reporting purposes, including the annual report to Congress.

Date Granted: September 25, 2003.

Contact: Nanci R. Doherty, Special Assistant to the Deputy Assistant Secretary, Community Planning and Development, Department of Housing and Urban Development, 451 Seventh Street, SW., Washington, DC 20410-7000, telephone (202) 708-2565.

• Regulation: 24 CFR 576.35(a)(ii).

Project/Activity: Request for waiver of the 24-month deadline of the expenditure of Emergency Shelter Grant (ESG) Funds, Project Number: S01DC010001, Tallapoosa County Commissioner, State of Alabama.

Nature of Requirement: The State of Alabama requested an extension of the 24-month ESG expenditure deadline. The regulations at 24 CFR 576.35(a)(ii) provide that State recipients must expend ESG funds within 24-months of the grant award by HUD.

Granted By: Roy A. Bernardi, Assistant Secretary for Community Planning and Development.

Reasons Waived: The State of Alabama requested a six-month extension of the June 4, 2003, deadline for expenditure of ESG funds because of the extensive delay in obtaining licensing approval from the State's Department of Human Resources following required renovations under the Americans with Disabilities Act that prevented the grantee from complying with the 24-month expenditure deadline. Waiving the 24-month requirement and extending the deadline for six months allowed the grantee to complete the activities and expend the remaining funds for youth services. The State and the county provided sufficient justification to permit approval of this waiver request.

Date Granted: September 30, 2003.

Contact: Nanci R. Doherty, Special Assistant to the Deputy Assistant Secretary, Community Planning and Development, Department of Housing and Urban Development, 451 Seventh Street, SW., Washington, DC 20410-7000, telephone (202) 708-2565.

II. Regulatory Waivers Granted by the Office of Housing

For further information about the following regulatory waivers, please see the name of the contact person that immediately follows the description of the waiver granted.

• Regulation: 24 CFR 401.600.

Project/Activity: The following projects requested waivers to the 12-month limit on above-market rents (24 CFR 401.600):

FHA No. | Project name | State
07135458 | Armitage Commons | IL
12594009 | Baltimore Garden Apartments | NV
12594011 | Cleveland Garden Apartments | NV
04235336 | Eastland Woods | OH
07135733 | Evergreen Terrace I | IL
03435174 | Finch Towers | PA
01635066 | Hanora Lippitt Mills Apartments | RI
03444115 | Hugh Carcella Apartments | PA
04235347 | Lakeshore Village | OH
01335117 | Lillian Y. Cooper Apartments | NY
01235312 | Marion Avenue Rehabilitation | NY
12735339 | Montesano Annex Apartments | WA
12735339 | Montesano Annex Apartments | WA
04235373 | Newton Woods | OH
01257184 | Norgate Plaza | NY
03535090 | Oakland Park Apartments (also known as Roger Gardens) | NJ
05334278 | Sheraton Towers | NC
08635177 | Southwood Townhouses | TN
01257161 | Unity Apartments | NY
08435334 | Wesley Senior Towers | MO
03435186 | Williamsport Neighborhood Strategy Area (NSA) | PA
12392501 | Winslow West (also known as Kachina Gardens) | AZ

Nature of Requirement: Section 401.600 requires that projects be marked down to market rents within 12 months after their first expiration date after January 1, 1998. The intent of this provision is to ensure timely processing of requests for restructuring and that the properties will not default on their Federal Housing Administration (FHA) insured mortgages during the restructuring process.

Granted By: John C. Weicher, Assistant Secretary for Housing—Federal Housing Commissioner.

Date Granted: August 26, 2003.

Reason Waived: The projects listed above were not assigned to the participating administrative entities (PAEs) in a timely manner or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.600.

Project/Activity: The following projects requested waivers to the 12-month limit on above-market rents (24 CFR 401.600):

FHA No. | Project name | State
01444047 | Braco-I | NY
01335105 | Brandegee Gardens | NY
09335086 | Cedar View Apartments | MT
04535094 | Clarksburg Towers | WV
03435185 | Cobbs Creek Neighborhood Strategy Area (NSA) | PA
06235333 | Crossgates Apartments | AL
01257153 | East 21st Street Apartments | NY
08235225 | Eastview Terrace Apartments | AR
06135371 | Edgewood Housing II | GA
12135677 | Eureka Central Residence | CA
11535420 | Falfurrias Village Apartments | TX
04235327 | Fostoria Townhouses | OH
07335407 | Gary Neighborhood Strategy Area (NSA) I & II | IN
01257088 | Greene Park Arms | NY
17138007 | Kenwood Square | WA
08335267 | Lakeland Wesley Village I | KY
01257121 | Maria Estela I | NY
06535334 | Moorhead Manor Apartments | MS
01335109 | Ninth Street Neighborhood Strategy Area (NSA) II | NY
01257142 | Noonan Plaza | NY
06135232 | Oconee Park Apartments | GA
06535591 | Pendleton Square | MS
03235022 | Prestwyck Apartments | DE
11392501 | Prince Hall Gardens II | TX
02335172 | Schoolhouse 77 | MA
01255173 | Siloam House | NY
10135263 | Sleeping Ute Apartments | CO
08435196 | Sullivan Hall | MO
08445006 | Sunflower Park Apartments | KS
01257159 | Sutter Houses | NY
07335448 | The Crossings II Apartments | IN
07335420 | The Meadows Apartments | IN
01257180 | Union Gardens I | NY
05635185 | Vistas De Jagueyes | PR
05235300 | Washington Gardens | MD
04235313 | William E. Fowler, Sr. Apartments II | OH
04535100 | Williamson Towers | WV
08435203 | Woodlen Place Apartments | MO

Nature of Requirement: Section 401.600 requires that projects be marked down to market rents within 12 months after their first expiration date after January 1, 1998. The intent of this provision is to ensure timely processing of requests for restructuring and that the properties will not default on their FHA insured mortgages during the restructuring process.

Granted By: John C. Weicher, Assistant Secretary for Housing—Federal Housing Commissioner.

Date Granted: August 26, 2003.

Reason Waived: The projects listed above were not assigned to the participating administrative entities (PAEs) in a timely manner or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.600.

Project/Activity: The following projects requested waivers to the 12-month limit on above-market rents (24 CFR 401.600):

FHA No. | Project name | State
06235162 | Hermitage Oaks Apartments | AL
06235256 | Hermitage Place Apartments | AL
06235355 | Oak Trace Apartments | AL
01735210 | Village Apartments | CT
06635038 | Jones Walker Palm Garden Apartments | FL
03135269 | St. Mary's Villa | NJ
01235472 | Barkley Gardens | NY
01335095 | Faxton Scott House (also known as Margaret Knamm Apartments) | NY
04235396 | Findlay Green Apartments | OH
04335145 | Pomeroy Cliff Apartments | OH
04235328 | Smiley Garden Apartments | OH

Nature of Requirement: Section 401.600 requires that projects be marked down to market rents within 12 months after their first expiration date after January 1, 1998. The intent of this provision is to ensure timely processing of requests for restructuring and that the properties will not default on their FHA insured mortgages during the restructuring process.

Granted By: John C. Weicher, Assistant Secretary for Housing—Federal Housing Commissioner.

Date Granted: September 25, 2003.

Reason Waived: The projects listed above were not assigned to the participating administrative entities (PAEs) in a timely manner or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.600.

Project/Activity: The following projects requested waivers to the 12-month limit on above-market rents (24 CFR 401.600):

FHA No. | Project name | State
03435185 | Cobbs Creek | PA
10235164 | Tumbleweed Apartments | KS
08335267 | Lakeland Wesley Village I | KY
02335253 | Villa Nueva Vista | MA
05235338 | Sharp Leadenhall II | MD
08435196 | Sullivan Hall | MO
01257141 | Bruckner Houses | NY
01257060 | Concourse Plaza | NY
01257075 | Davidson Avenue Rehab II | NY
01257148 | The Gateways (also known as Greenport Apartments) | NY
01257383 | Dean North Apartments | NY
04235343 | Bay Meadows Apartments | OH
04235327 | Fostoria Townhouses | OH
04235345 | Little Bark View | OH
04335238 | McArthur Park | OH
03435174 | Finch Towers | PA

Nature of Requirement: Section 401.600 requires that projects be marked down to market rents within 12 months after their first expiration date after January 1, 1998. The intent of this provision is to ensure timely processing of requests for restructuring and that the properties will not default on their FHA insured mortgages during the restructuring process.

Granted By: John C. Weicher, Assistant Secretary for Housing—Federal Housing Commissioner.

Date Granted: September 25, 2003.

Reason Waived: The projects listed above were not assigned to the participating administrative entities (PAEs) in a timely manner or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 883.606.

Project/Activity: Ashland/Dellwood Apartments, Cambridge, MN; Project Number: MN46-H162-391-MHFA #80-092.

Nature of Requirement: Section 883.606(b) establishes the procedures by which a State agency is entitled to a reasonable fee, determined by HUD, for administering a contract on newly constructed or substantially rehabilitated units, provided there is no override on the permanent loan granted by the agency to the owner for a project containing assisted units.

Granted By: John C. Weicher, Assistant Secretary for Housing—Federal Housing Commissioner.

Date Granted: August 1, 2003.

Reason Waived: The Minnesota Housing Finance Agency (MHFA) negotiated and secured from the owner of Dellwood a commitment to remain in the Section 8 program for 10 years beyond its current commitment in return for an adjustment in allowable distribution consistent with that available to smaller projects in the MHFA portfolio. The terms of the Dellwood's commitment are the same as those imposed on the other MHFA bond financed Section 8 assisted projects that were provided a waiver permitting MHFA to continue to collect override and contract administration fees.

Contact: Beverly J. Miller, Director, Office of Multifamily Asset Management, Department of Housing and Urban Development, 451 Seventh Street, SW., Washington, DC 20410-7000, telephone (202) 708-3730.

• Regulation: 24 CFR 891.100(d).

Project/Activity: St. Tropez Drive Group Home, Newport News, VA; Project Number: 051-HD092/VA36-Q001-007.

Nature of Requirement: Section 891.100(d) prohibits amendment of the amount of approved capital advance funds prior to initial closing.

Granted By: John C. Weicher, Assistant Secretary for Housing—Federal Housing Commissioner.

Date Granted: July 1, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Southampton Arch Group Home, Portsmouth, VA; Project Number: 051-HD090/VA36-Q001-005.

Nature of Requirement: Section 891.100(d) prohibits amendment of the amount of approved capital advance funds prior to initial closing.

Granted By: John C. Weicher, Assistant Secretary for Housing—Federal Housing Commissioner.

Date Granted: July 1, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: The Carriage House at Acushnet Heights, New Bedford, MA; Project Number: 023-EE147/MA06-S011-019.

Nature of Requirement: Section 891.100(d) prohibits amendment of the amount of approved capital advance funds prior to initial closing.

Granted By: John C. Weicher, Assistant Secretary for Housing—Federal Housing Commissioner.

Date Granted: July 2, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Woodland Estates, North Providence, RI; Project Number: 016-HD025/RI43-Q991-001.

Nature of Requirement: Section 891.100(d) prohibits amendment of the amount of approved capital advance funds prior to initial closing.

Granted By: John C. Weicher, Assistant Secretary for Housing—Federal Housing Commissioner.

Date Granted: July 2, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Wellman House, Bath County, VA; Project Number: 051-HD103/VA36-Q011-006.

Nature of Requirement: Section 891.100(d) prohibits amendment of the amount of approved capital advance funds prior to initial closing.

Granted By: John C. Weicher, Assistant Secretary for Housing—Federal Housing Commissioner.

Date Granted: July 7, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Crestview Unity, Bryan, TX; Project Number: 114-EE088/TX24-S011-001.

Nature of Requirement: Section 891.100(d) prohibits amendment of the amount of approved capital advance funds prior to initial closing.

Granted By: John C. Weicher, Assistant Secretary for Housing—Federal Housing Commissioner.

Date Granted: July 7, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Grady Manor, Charlottesville, VA; Project Number: 051-HD095/VA36-Q001-010.

Nature of Requirement: Section 891.100(d) prohibits amendment of the amount of approved capital advance funds prior to initial closing.

Granted By: John C. Weicher, Assistant Secretary for Housing—Federal Housing Commissioner.

Date Granted: July 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Mountain Vistas, Redding, CA; Project Number: 136-EE064/CA30-S011-001.

Nature of Requirement: Section 891.100(d) prohibits amendment of the amount of approved capital advance funds prior to initial closing.

Granted By: John C. Weicher, Assistant Secretary for Housing—Federal Housing Commissioner.

Date Granted: July 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Piedmont Drive Group Home, Spotsylvania, VA; Project Number: 051-HD086/VA36-Q001-001.

Nature of Requirement: Section 891.100(d) prohibits amendment of the amount of approved capital advance funds prior to initial closing.

Granted By: John C. Weicher, Assistant Secretary for Housing—Federal Housing Commissioner.

Date Granted: July 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Creedmoor Court, Brookline, PA; Project Number: 033-EE109/PA28-S011-002.

Nature of Requirement: Section 891.100(d) prohibits amendment of the amount of approved capital advance funds prior to initial closing.

Granted By: John C. Weicher, Assistant Secretary for Housing—Federal Housing Commissioner.

Date Granted: July 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Maison de Lemaire, Lafayette, LA; Project Number: 064-HD061/LA48-Q011-001.

Nature of Requirement: Section 891.100(d) prohibits amendment of the amount of approved capital advance funds prior to initial closing.

Granted By: John C. Weicher, Assistant Secretary for Housing—Federal Housing Commissioner.

Date Granted: July 15, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Falcon Senior Housing, Wilbraham, MA; Project Number: 023-EE122/MA06-S001-007.

Nature of Requirement: Section 891.100(d) prohibits amendment of the amount of approved capital advance funds prior to initial closing.

Granted By: John C. Weicher, Assistant Secretary for Housing—Federal Housing Commissioner.

Date Granted: July 15, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Miller Avenue Apartments, Duquesne, PA; Project Number: 033-EE108/PA28-S011-001.

Nature of Requirement: Section 891.100(d) prohibits amendment of the amount of approved capital advance funds prior to initial closing.

Granted By: John C. Weicher, Assistant Secretary for Housing—Federal Housing Commissioner.

Date Granted: July 15, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Astoria Village, Sylmar, CA; Project Number: 122-HD145/CA16-Q011-005.

Nature of Requirement: Section 891.100(d) prohibits amendment of the amount of approved capital advance funds prior to initial closing.

Granted By: John C. Weicher, Assistant Secretary for Housing—Federal Housing Commissioner.

Date Granted: July 15, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: St. Agnes Manor, Jeanerette, LA; Project Number: 064-EE125/LA48-S011-006.

Nature of Requirement: Section 891.100(d) prohibits amendment of the amount of approved capital advance funds prior to initial closing.

Granted By: John C. Weicher, Assistant Secretary for Housing—Federal Housing Commissioner.

Date Granted: July 15, 2003.

Reason Waived: The sponsor exhausted all efforts to obtain additional funding. The project is economically designed and is comparable in cost to similar projects developed in the area. Labor and material costs increased after the area was hit by two hurricanes.

Contact: Willie Spearmon, Director, Office of Housing Assistance and Grant Administration, Department of Housing and Urban Development, 451 Seventh Street, SW., Washington, DC 20410-8000, telephone (202) 708-3000.

• Regulation: 24 CFR 891.100(d).

Project/Activity: Lutheran Homes #2, Oak Harbor, OH, Project Number: 042-EE130/OH12-S011-004.

Nature of Requirement: Section 891.100(d) prohibits amendment of the amount of approved capital advance funds prior to initial closing.

Granted By: John C. Weicher, Assistant Secretary for Housing—Federal Housing Commissioner.

Date Granted: July 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Crossroad II, Providence, RI; Project Number: 016-HD031/RI43-Q001-001.

Nature of Requirement: Section 891.100(d) prohibits amendment of the amount of approved capital advance funds prior to initial closing.

Granted By: John C. Weicher, Assistant Secretary for Housing—Federal Housing Commissioner.

Date Granted: July 16, 2003.

Reason Waived: The sponsor exhausted all efforts to obtain additional funding from other sources. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Tartan Village, Kilmarnock, VA; Project Number: 051-EE082/VA36-S011-005.

Nature of Requirement: Section 891.100(d) prohibits amendment of the amount of approved capital advance funds prior to initial closing.

Granted By: John C. Weicher, Assistant Secretary for Housing—Federal Housing Commissioner.

Date Granted: July 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Colman Court, Cleveland, OH; Project Number: 042-EE135/OH12-S011-009.

Nature of Requirement: Section 891.100(d) prohibits amendment of the amount of approved capital advance funds prior to initial closing.

Granted By: John C. Weicher, Assistant Secretary for Housing—Federal Housing Commissioner.

Date Granted: July 17, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Culpeper Elderly, Culpeper, VA; Project Number: 051-EE074/VA36-S001-001.

Nature of Requirement: Section 891.100(d) prohibits amendment of the amount of approved capital advance funds prior to initial closing.

Granted By: John C. Weicher, Assistant Secretary for Housing—Federal Housing Commissioner.

Date Granted: July 17, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Paumanack Village V, Melville, NY; Project Number: 012-EE308/NY36-S011-002.

Nature of Requirement: Section 891.100(d) prohibits amendment of the amount of approved capital advance funds prior to initial closing.

Granted By: John C. Weicher, Assistant Secretary for Housing—Federal Housing Commissioner.

Date Granted: July 21, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Volunteers Of America (VOA) Elderly, Louisville, KY; Project Number: 083-EE082/KY36-S011-008.

Nature of Requirement: Section 891.100(d) prohibits amendment of the amount of approved capital advance funds prior to initial closing.

Granted By: John C. Weicher, Assistant Secretary for Housing—Federal Housing Commissioner.

Date Granted: July 28, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Melvin T. Walls Manor, Ypsilanti, MI; Project Number: 044-EE070/MI28-S000-003.

Nature of Requirement: Section 891.100(d) prohibits amendment of the amount of approved capital advance funds prior to initial closing.

Granted By: John C. Weicher, Assistant Secretary for Housing—Federal Housing Commissioner.

Date Granted: August 6, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Ada S. McKinley 4, Chicago, IL; Project Number: 071-HD110/IL06-Q981-003.

Nature of Requirement: Section 891.100(d) prohibits amendment of the amount of approved capital advance funds prior to initial closing.

Granted By: John C. Weicher, Assistant Secretary for Housing—Federal Housing Commissioner.

Date Granted: August 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Lutheran Social Services of New England, Middletown, CT, Project Number: 017-EE053/CT26-S991-004.

Nature of Requirement: Section 891.100(d) prohibits amendment of the amount of approved capital advance funds prior to initial closing.

Granted By: John C. Weicher, Assistant Secretary for Housing—Federal Housing Commissioner.

Date Granted: August 12, 2003.

Reason Waived: The sponsor exhausted all efforts to obtain additional funding. The project is economically designed and unique among 202 projects because this 202 project is part of a condominium development.

Contact: Willie Spearmon, Director, Office of Housing Assistance and Grant Administration, Department of Housing and Urban Development, 451 Seventh Street, SW., Washington, DC 20410-8000, telephone (202) 708-3000.

• Regulation: 24 CFR 891.100(d).

Project/Activity: Victory Gardens, New Haven, CT; Project Number: 017-EE066/CT26-S011-002.

Nature of Requirement: Section 891.100(d) prohibits amendment of the amount of approved capital advance funds prior to initial closing.

Granted By: John C. Weicher, Assistant Secretary for Housing—Federal Housing Commissioner.

Date Granted: August 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Abilities of San Juan, Melbourne, FL; Project Number: 067-HD088/FL29-Q021-002.

Nature of Requirement: Section 891.100(d) prohibits amendment of the amount of approved capital advance funds prior to initial closing.

Granted By: John C. Weicher, Assistant Secretary for Housing—Federal Housing Commissioner.

Date Granted: August 19, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Weinberg Apartments at Owings Mills, Phase I, Owings Mills, MD; Project Number: 052-EE048/MD06-S021-006.

Nature of Requirement: Section 891.100(d) prohibits amendment of the amount of approved capital advance funds prior to initial closing.

Granted By: John C. Weicher, Assistant Secretary for Housing—Federal Housing Commissioner.

Date Granted: August 20, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Mountain View Home, McConnellsburg, PA; Project Number: 033-EE106/PA28-S001-004.

Nature of Requirement: Section 891.100(d) prohibits amendment of the amount of approved capital advance funds prior to initial closing.

Granted By: John C. Weicher, Assistant Secretary for Housing—Federal Housing Commissioner.

Date Granted: September 4, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Pine Street Inn, Dorchester, MA; Project Number: 023-EE098/MA06-S981-003.

Nature of Requirement: Section 891.100(d) prohibits amendment of the amount of approved capital advance funds prior to initial closing.

Granted By: John C. Weicher, Assistant Secretary for Housing—Federal Housing Commissioner.

Date Granted: September 5, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: The Salvation Army Evangeline Booth Garden Apartments, Pasadena, TX; Project Number: 114-EE095/TX24-S011-008.

Nature of Requirement: Section 891.100(d) prohibits amendment of the amount of approved capital advance funds prior to initial closing.

Granted By: John C. Weicher, Assistant Secretary for Housing—Federal Housing Commissioner.

Date Granted: September 5, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Wofford Park, Hattiesburg, MS; Project Number: 065-HD029/MS26-Q021-002.

Nature of Requirement: Section 891.100(d) prohibits amendment of the amount of approved capital advance funds prior to initial closing.

Granted By: John C. Weicher, Assistant Secretary for Housing—Federal Housing Commissioner.

Date Granted: September 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Timber Lawn Place, Jackson, MS; Project Number: 065-EE034/MS26-S011-003.

Nature of Requirement: Section 891.100(d) prohibits amendment of the amount of approved capital advance funds prior to initial closing.

Granted By: John C. Weicher, Assistant Secretary for Housing—Federal Housing Commissioner.

Date Granted: September 9, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Piedmont Drive Group Home, Spotsylvania, VA; Project Number: 051-HD086/VA36-Q001-001.

Nature of Requirement: Section 891.100(d) prohibits amendment of the amount of approved capital advance funds prior to initial closing.

Granted By: John C. Weicher, Assistant Secretary for Housing—Federal Housing Commissioner.

Date Granted: September 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Creekside Gardens, Paso Robles, CA; Project Number: 122-EE162/CA16-S991-013.

Nature of Requirement: Section 891.100(d) prohibits amendment of the amount of approved capital advance funds prior to initial closing.

Granted By: John C. Weicher, Assistant Secretary for Housing—Federal Housing Commissioner.

Date Granted: September 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Congress Street Apartments, New Port Richey, FL; Project Number: 067-HD077/FL29-Q001-001.

Nature of Requirement: Section 891.100(d) prohibits amendment of the amount of approved capital advance funds prior to initial closing.

Granted By: John C. Weicher, Assistant Secretary for Housing—Federal Housing Commissioner.

Date Granted: September 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Casimir House, Gardena, CA; Project Number: 122-HD142/CA16-Q011-002.

Nature of Requirement: Section 891.100(d) prohibits amendment of the amount of approved capital advance funds prior to initial closing.

Granted By: John C. Weicher, Assistant Secretary for Housing—Federal Housing Commissioner.

Date Granted: September 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Gates Gardens Senior Housing, Brooklyn, NY; Project Number: 012-EE312/NY36-S011-006.

Nature of Requirement: Section 891.100(d) prohibits amendment of the amount of approved capital advance funds prior to initial closing.

Granted By: John C. Weicher, Assistant Secretary for Housing—Federal Housing Commissioner.

Date Granted: September 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Scuffling Hill Road Group Home, Rocky Mount, VA; Project Number: 051-HD099/VA36-Q011-002.

Nature of Requirement: Section 891.100(d) prohibits amendment of the amount of approved capital advance funds prior to initial closing.

Granted By: John C. Weicher, Assistant Secretary for Housing—Federal Housing Commissioner.

Date Granted: September 11, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Belmeno Manor, Long Beach, CA; Project Number: 122-HD146/CA16-Q011-006.

Nature of Requirement: Section 891.100(d) prohibits amendment of the amount of approved capital advance funds prior to initial closing.

Granted By: John C. Weicher, Assistant Secretary for Housing—Federal Housing Commissioner.

Date Granted: September 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: National Church Residence (NCR) of North Fairmount, Cincinnati, OH; Project Number: 046-EE056/OH10-2001-004.

Nature of Requirement: Section 891.100(d) prohibits amendment of the amount of approved capital advance funds prior to initial closing.

Granted By: John C. Weicher, Assistant Secretary for Housing—Federal Housing Commissioner.

Date Granted: September 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: St. Brendan Senior Housing, Chicago, IL; Project Number: 071-EE159/IL06-S001-005.

Nature of Requirement: Section 891.100(d) prohibits amendment of the amount of approved capital advance funds prior to initial closing.

Granted By: John C. Weicher, Assistant Secretary for Housing—Federal Housing Commissioner.

Date Granted: September 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Calvary Senior Center, Springfield, IL; Project Number: 072-EE141/IL06-S011-003.

Nature of Requirement: Section 891.100(d) prohibits amendment of the amount of approved capital advance funds prior to initial closing.

Granted By: John C. Weicher, Assistant Secretary for Housing—Federal Housing Commissioner.

Date Granted: September 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Greenfield Manor, Los Angeles, CA; Project Number: 122-HD144/CA16-Q011-004.

Nature of Requirement: Section 891.100(d) prohibits amendment of the amount of approved capital advance funds prior to initial closing.

Granted By: John C. Weicher, Assistant Secretary for Housing—Federal Housing Commissioner.

Date Granted: September 12, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Reseda Horizon, Northridge, CA; Project Number: 122-HD136/CA16-Q001-007.

Nature of Requirement: Section 891.100(d) prohibits amendment of the amount of approved capital advance funds prior to initial closing.

Granted By: John C. Weicher, Assistant Secretary for Housing—Federal Housing Commissioner.

Date Granted: September 13, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Bishop Goedert Residence, Hines, IL; Project Number: 071-EE178/IL06-S021-006.

Nature of Requirement: Section 891.100(d) prohibits amendment of the amount of approved capital advance funds prior to initial closing.

Granted By: John C. Weicher, Assistant Secretary for Housing—Federal Housing Commissioner.

Date Granted: September 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Newell Retirement Apartments, San Antonio, TX; Project Number: 115-EE062/TX59-S011-002.

Nature of Requirement: Section 891.100(d) prohibits amendment of the amount of approved capital advance funds prior to initial closing.

Granted By: John C. Weicher, Assistant Secretary for Housing—Federal Housing Commissioner.

Date Granted: September 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Vermont Seniors, Los Angeles, CA; Project Number: 122-EE148/CA16-S981-017S.

Nature of Requirement: Section 891.100(d) prohibits amendment of the amount of approved capital advance funds prior to initial closing.

Granted By: John C. Weicher, Assistant Secretary for Housing—Federal Housing Commissioner.

Date Granted: September 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Berry Wood (also known as Deerfield Plaza), Deerfield Township, OH; Project Number: 046-EE058/OH10-S011-002.

Nature of Requirement: Section 891.100(d) prohibits amendment of the amount of approved capital advance funds prior to initial closing.

Granted By: John C. Weicher, Assistant Secretary for Housing—Federal Housing Commissioner.

Date Granted: September 16, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Villa at Marian Park, Akron, OH; Project Number: 042-EE112/OH12-S991-005.

Nature of Requirement: Section 891.100(d) prohibits amendment of the amount of approved capital advance funds prior to initial closing.

Granted By: John C. Weicher, Assistant Secretary for Housing—Federal Housing Commissioner.

Date Granted: September 17, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Judson Village, Cincinnati, OH; Project Number: 046-HD024/OH10-Q011-001.

Nature of Requirement: Section 891.100(d) prohibits amendment of the amount of approved capital advance funds prior to initial closing.

Granted By: John C. Weicher, Assistant Secretary for Housing—Federal Housing Commissioner.

Date Granted: September 22, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Mountain Valley Haven, Hayfork, CA; Project Number: 136-EE065/CA30-S011-002.

Nature of Requirement: Section 891.100(d) prohibits amendment of the amount of approved capital advance funds prior to initial closing.

Granted By: John C. Weicher, Assistant Secretary for Housing—Federal Housing Commissioner.

Date Granted: September 22, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Southampton Arch Group Home, Portsmouth, VA; Project Number: 051-HD090/VA36-Q001-005.

Nature of Requirement: Section 891.100(d) prohibits amendment of the amount of approved capital advance funds prior to initial closing.

Granted By: John C. Weicher, Assistant Secretary for Housing—Federal Housing Commissioner.

Date Granted: September 23, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Rainbow Village II, Houston, TX; Project Number: 114-EE079/TX24-S991-008.

Nature of Requirement: Section 891.100(d) prohibits amendment of the amount of approved capital advance funds prior to initial closing.

Granted By: John C. Weicher, Assistant Secretary for Housing—Federal Housing Commissioner.

Date Granted: September 23, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Annie Mae's Prayer Garden Apartments, Ville Platte, LA; Project Number: 064-HD069/LA48-Q021-002.

Nature of Requirement: Section 891.100(d) prohibits amendment of the amount of approved capital advance funds prior to initial closing.

Granted By: John C. Weicher, Assistant Secretary for Housing—Federal Housing Commissioner.

Date Granted: September 24, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: 646 South Pearl Street, Albany, NY; Project Number: 014-HD107/NY06-Q021-002.

Nature of Requirement: Section 891.100(d) prohibits amendment of the amount of approved capital advance funds prior to initial closing.

Granted By: John C. Weicher, Assistant Secretary for Housing—Federal Housing Commissioner.

Date Granted: September 25, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Mt. St. Mary's, Tonawanda, NY; Project Number: 014-EE198/NY06-S001-004.

Nature of Requirement: Section 891.100(d) prohibits amendment of the amount of approved capital advance funds prior to initial closing.

Granted By: John C. Weicher, Assistant Secretary for Housing—Federal Housing Commissioner.

Date Granted: September 25, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Goodson Manor, Farmville, VA; Project Number: 051-EE077/VA36-S001-004.

Nature of Requirement: Section 891.100(d) prohibits amendment of the amount of approved capital advance funds prior to initial closing.

Granted By: John C. Weicher, Assistant Secretary for Housing—Federal Housing Commissioner.

Date Granted: September 26, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Laurel Creek, Cookeville, TN; Project Number: 086-EE039/TN43-S011-005.

Nature of Requirement: Section 891.100(d) prohibits amendment of the amount of approved capital advance funds prior to initial closing.

Granted By: John C. Weicher, Assistant Secretary for Housing—Federal Housing Commissioner.

Date Granted: September 30, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Flury Place, Elkridge, MD; Project Number: 052-HD034/MD06-Q981-004.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: July 7, 2003.

Reason Waived: The sponsor exhausted all efforts to obtain additional funding. The project is economically designed and is comparable in cost to similar projects developed in the area. The project experienced delays due to the need to resolve problems regarding the sewer line connection and to determine if the noise level was acceptable.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Montbello Volunteers of America (VOA) Elderly, Denver, CO; Project Number: 101-EE039/CO99-S001-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: July 29, 2003.

Reason Waived: The sponsor exhausted all efforts to obtain additional funding. The project is economically designed and is comparable in cost to similar projects developed in the area. Also, additional time was needed for HUD to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: PSCH Ozone Park Residence, Ozone Park, NY; Project Number: 012-HD100/NY36-Q001-005.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 6, 2003.

Reason Waived: The sponsor exhausted all efforts to obtain additional funding. The project is economically designed and is comparable in cost to similar projects developed in the area. The project was delayed due to the sponsor's inability to obtain site control for the original site and the difficulty encountered in securing a replacement site.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Belmont Boulevard II Apartments, Bronx, NY; Project Number: 012-EE237/NY36-S971-024.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 8, 2003.

Reason Waived: The sponsor exhausted all efforts to obtain additional funding. The project is economically designed and is comparable in cost to similar projects developed in the area. The project incurred delays due to the need to resolve site remediation issues.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: St. Josephs Memorial Center (SJMC) Senior Housing, Yonkers, NY; Project Number: 012-EE265/NY36-S991-005.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 12, 2003.

Reason Waived: The sponsor exhausted all efforts to obtain additional funding. The project is economically designed and is comparable in cost to similar projects developed in the area. The project was delayed due to a 3-year local approval process for compliance with the requirements of the Advisory Council on Historic Preservation, rezoning, and site preparation.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Bolton Senior Housing, Bolton, MA; Project Number: 023-EE080/MA06-S961-016.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 12, 2003.

Reason Waived: The sponsor exhausted all efforts to obtain additional funding. The project is economically designed and is comparable in cost to similar projects developed in the area. The project was delayed due to local residents' objections to the project's design.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: The Pavillion at Immaculate Conception, Bronx, NY; Project Number: 012-EE247/NY36-S981-003.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 13, 2003.

Reason Waived: The sponsor exhausted all efforts to obtain additional funding. The project is economically designed and is comparable in cost to similar projects developed in the area. The project experienced delays when it encountered problems securing and maintaining a general contractor.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Frederick Court, Brewster, MA; Project Number: 023-EE121/MA06-S001-006.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 13, 2003.

Reason Waived: The sponsor exhausted all efforts to obtain additional funding. The project is economically designed and is comparable in cost to similar projects developed in the area. The project was delayed due to issues in approving the ground lease for the site.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: St. Francis Cabrini Gardens, Coram, NY; Project Number: 012-EE288/NY36-S001-003.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: August 13, 2003.

Reason Waived: The sponsor exhausted all efforts to obtain additional funding. The project is economically designed and is comparable in cost to similar projects developed in the area. The project was delayed due to the lengthy local approval process for the establishment of an on-site sewerage treatment plant.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Union City Senior Housing, Union City, CA; Project Number: 121-EE136/CA39-S001-007.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing—Federal Housing Commissioner.

Date Granted: September 24, 2003.

Reason Waived: The sponsor exhausted all efforts to obtain additional funding. The project is economically designed and is comparable in cost to similar projects developed in the area. Time was needed for HUD to process the amended firm commitment and to review the initial closing documents.

Contact: Willie Spearmon, Director, Office of Housing Assistance and Grant Administration, Department of Housing and Urban Development, 451 Seventh Street, SW., Washington, DC 20410-8000, telephone (202) 708-3000.

• Regulation: 24 CFR 891.120(b) and 24 CFR 891.310(b)(1).

Project/Activity: Ozone Park Residence, Ozone Park, NY; Project Number: 012-HD100/NY36-Q001-005.

Nature of Requirement: Section 891.120(b) requires projects to comply with the Uniform Federal Accessibility Standards, section 504 of the Rehabilitation Act of 1973, and HUD's regulations governing new construction of multifamily housing projects and the design and construction requirements of the Fair Housing Act. Section 891.310(b)(1) requires that all entrances, common areas, units to be occupied by resident staff, and amenities must be readily accessible to and usable by persons with disabilities.

Granted By: John C. Weicher, Assistant Secretary for Housing—Federal Housing Commissioner.

Date Granted: August 19, 2003.

Reason Waived: The sponsor indicated that fewer than five percent of the individuals that are served under their programs require accessible housing. The home is a two-story residence and it would be financially infeasible to make the home fully accessible. The sponsor already has two other sites that will be fully accessible, and there should be a sufficient number of accessible units for potential residents with physical disabilities.

Contact: Willie Spearmon, Director, Office of Housing Assistance and Grant Administration, Department of Housing and Urban Development, 451 Seventh Street, SW., Washington, DC 20410-8000, telephone (202) 708-3000.

• Regulation: 24 CFR 891.130(b).

Project/Activity: Timber Hills Independent Living Complex of Tippah County, Ripley, MS, Project Number: 065-HD024/MS26-Q001-001; Bridgeway Apartments II, Picayune, MS, Project Number: 065-HD025/MS26-Q001-002; Timber Hills Independent Living Complex of Tishomingo County, Luka, MS, Project Number: 065-HD026/MS26-Q011-001; Pine Hills Apartments, Gloster, MS, Project Number: 065-HD027/MS26-Q011-002.

Nature of Requirement: Section 891.130(b) prohibits an identity of interest between the sponsor or owner (or borrower, as applicable). Section 891.130(b) also prohibits an identify of interest between the sponsor or owner and any development team member or among development team members until two years after final closing

Granted By: John C. Weicher, Assistant Secretary for Housing—Federal Housing Commissioner.

Date Granted: July 15, 2003.

Reason Waived: The waiver was to permit the paralegal in the project's law firm to serve as a paid consultant for the projects because the consultant for the projects died. In order not to delay the closing of these projects any further, the waiver was granted.

Contact: Willie Spearmon, Director, Office of Housing Assistance and Grant Administration, Department of Housing and Urban Development, 451 Seventh Street, SW., Washington, DC 20410-8000, telephone (202) 708-3000.

• Regulation: 24 CFR 891.165.

Project/Activity: Reseda Horizon, Northridge, CA; Project Number: 122-HD136/CA16-Q001-007.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 1, 2003.

Reason Waived: The sponsor had to change sites and needed time to prepare contract documents for the new site.

Contact: Willie Spearmon, Director, Office of Housing Assistance and Grant Administration, Department of Housing and Urban Development, 451 Seventh Street, SW., Washington, DC 20410-8000, telephone (202) 708-3000.

• Regulation: 24 CFR 891.165.

Project/Activity: Myrtle Davis Senior Complex, Milwaukee, WI; Project Number: 075-EE095/WI39-S001-003.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 2, 2003.

Reason Waived: Additional time was needed for HUD to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Las Golondrinas, San Jose, CA; Project Number: 121-EE138/CA39-S001-009.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 3, 2003.

Reason Waived: The sponsor needed time to obtain additional funds. Additional time was also needed to conduct extensive reviews of the remediation of prior site contamination.

Contact: Willie Spearmon, Director, Office of Housing Assistance and Grant Administration, Department of Housing and Urban Development, 451 Seventh Street, SW., Washington, DC 20410-8000, telephone (202) 708-3000.

• Regulation: 24 CFR 891.165.

Project/Activity: Stanton Accessible Apartments, Stanton, CA; Project Number: 143-HD008/CA43-Q981-002.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 7, 2003.

Reason Waived: Additional time was needed for HUD to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Order of Ahepa (AHEP) 23-III Apartments, Montgomery, AL; Project Number: 062-EE046/AL09-S001-002.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 9, 2003.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Hillsborough County Volunteers Of America (VOA) Living Center III, Tampa, FL; Project Number: 067-HD080/FL29-Q001-005.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 9, 2003.

Reason Waived: More time was needed to obtain additional funds and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Awakenings Village Apartments, Whittier, CA; Project Number: 122-HD140/CA16-Q001-011.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 9, 2003.

Reason Waived: Additional time was needed for HUD to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Holiday Heights Volunteers Of America (VOA) Living Center, Bradenton, FL; Project Number: 067-HD079/FL29-Q001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 9, 2003.

Reason Waived: More time was needed to obtain additional funds and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: National Church Residence (NCR) North Fairmount, Cincinnati, OH; Project Number: 046-EE056/OH10-S001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 9, 2003.

Reason Waived: Additional time was needed for HUD to prepare the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: South Daytona Good Samaritan Housing, South Daytona Beach, FL; Project Number: 067-EE111/FL29-S001-011.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 11, 2003.

Reason Waived: Additional time was needed for HUD to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Hemet Ability First, Hemet, CA; Project Number: 122-HD130/CA16-Q001-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: The project experienced significant delays due to a site change and the subsequent development of contract documents for the new site. HUD needed additional time to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Hayworth Housing, Los Angeles, CA; Project Number: 122-HD118/CA16-Q991-002.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: The project incurred delays while the owner resolved an issue after one of the sites was rejected.

Contact: Willie Spearmon, Director, Office of Housing Assistance and Grant Administration, Department of Housing and Urban Development, 451 Seventh Street, SW., Washington, DC 20410-8000, telephone (202) 708-3000.

• Regulation: 24 CFR 891.165.

Project/Activity: Melvin T. Walls Manor, Ypsilanti Township, MI; Project Number: 044-EE070/MI28-S000-003.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: More time was needed for the sponsor to acquire additional funding and to redesign portions of the project.

Contact: Willie Spearmon, Director, Office of Housing Assistance and Grant Administration, Department of Housing and Urban Development, 451 Seventh Street, SW., Washington, DC 20410-8000, telephone (202) 708-3000.

• Regulation: 24 CFR 891.165.

Project/Activity: Accessible Space, Incorporated, Birmingham, AL; Project Number: 062-HD041/AL09-Q981-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: The sponsor experienced lengthy delays due to the need to resolve project cost issues.

Contact: Willie Spearmon, Director, Office of Housing Assistance and Grant Administration, Department of Housing and Urban Development, 451 Seventh Street, SW., Washington, DC 20410-8000, telephone (202) 708-3000.

• Regulation: 24 CFR 891.165.

Project/Activity: Washington Park Elderly, Chicago, IL; Project Number: 071-EE158/IL06-S001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: Additional time was needed for HUD to process the firm commitment application in order for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Chandler Arms II, Columbus, OH; Project Number: 043-EE071/OH16-S001-003.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: Additional time was needed for the city to approve a zoning variance and for HUD to process and issue the firm commitment.

Contact: Willie Spearmon, Director, Office of Housing Assistance and Grant Administration, Department of Housing and Urban Development, 451 Seventh Street, SW., Washington, DC 20410-8000, telephone (202) 708-3000.

• Regulation: 24 CFR 891.165.

Project/Activity: Harvard Square, Irvin, CA; Project Number: 143-HD011/CA43-Q001-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: Additional time was needed for the sponsor to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Legion Woods Apartments, New Haven, CT; Project Number: 017-HD028/CT26-Q001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 15, 2003.

Reason Waived: More time was needed to obtain additional funds and to select a general contractor.

Contact: Willie Spearmon, Director, Office of Housing Assistance and Grant Administration, Department of Housing and Urban Development, 451 Seventh Street, SW., Washington, DC 20410-8000, telephone (202) 708-3000.

• Regulation: 24 CFR 891.165.

Project/Activity: JoMar of Zion, Oshkosh, WI; Project Number: 075-EE096/WI39-S001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 16, 2003.

Reason Waived: Additional time was needed for the owner to prepare and for HUD to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Rotary Village II, Del Rio, TX; Project Number: 115-EE057/TX59-S001-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 16, 2003.

Reason Waived: Additional time was needed for the owner to obtain the required tax exemption ruling from the Internal Revenue Service.

Contact: Willie Spearmon, Director, Office of Housing Assistance and Grant Administration, Department of Housing and Urban Development, 451 Seventh Street, SW., Washington, DC 20410-8000, telephone (202) 708-3000.

• Regulation: 24 CFR 891.165.

Project/Activity: McTaggert Court I, Stow, OH; Project Number: 042-HD089/OH12-Q001-003.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 21, 2003.

Reason Waived: Due to local opposition against several different sites identified for the project, the sponsor needed additional time to identify sites that would meet local zoning requirements.

Contact: Willie Spearmon, Director, Office of Housing Assistance and Grant Administration, Department of Housing and Urban Development, 451 Seventh Street, SW., Washington, DC 20410-8000, telephone (202) 708-3000.

• Regulation: 24 CFR 891.165.

Project/Activity: Carrie P. Meek Manor, Miami, FL; Project Number: 066-EE071/FL29-S991-016.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 21, 2003.

Reason Waived: The project experienced delays due to site control problems. Additional time was needed to correct deficiencies in the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Providence St. Elizabeth House, Seattle, WA; Project Number: 127-EE032/WA19-S011-003.

Nature Of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 21, 2003.

Reason Waived: The project is part of a HOPE VI redevelopment of a public housing site that had been delayed due to third-party opposition and the need to resolve environmental site issues. Additional time was needed to finalize the HOPE VI redevelopment plans to permit construction of the project.

Contact: Willie Spearmon, Director, Office of Housing Assistance and Grant Administration, Department of Housing and Urban Development, 451 Seventh Street, SW., Washington, DC 20410-8000, telephone (202) 708-3000.

• Regulation: 24 CFR 891.165.

Project/Activity: White Cone Senior Apartments, White Cone, AZ; Project Number: 123-EE077/AZ20-S001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 23, 2003.

Reason Waived: The sponsor needed time to obtain additional funding. The sponsor also had problems securing an architect and contractor with bids within the project costs.

Contact: Willie Spearmon, Director, Office of Housing Assistance and Grant Administration, Department of Housing and Urban Development, 451 Seventh Street, SW., Washington, DC 20410-8000, telephone (202) 708-3000.

• Regulation: 24 CFR 891.165.

Project/Activity: Mechanic Street Apartments, Marlboro, MA; Project Number: 023-HD131/MA06-Q971-012.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 24, 2003.

Reason Waived: Additional time was needed to review the initial closing documents and for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Villa Seton, Port St. Lucie, FL; Project Number: 067-EE107/FL29-S001-005.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 31, 2003.

Reason Waived: HUD needed additional time to process the firm commitment application and for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Spruce Landing, Kansas City, MO; Project Number: 084-HD036/MO16-Q001-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: July 31, 2003.

Reason Waived: Delays were experienced by the project due to difficulty in locating and negotiating a suitable site and an unexpected requirement by the city to complete a drainage study.

Contact: Willie Spearmon, Director, Office of Housing Assistance and Grant Administration, Department of Housing and Urban Development, 451 Seventh Street, SW., Washington, DC 20410-8000, telephone (202) 708-3000.

• Regulation: 24 CFR 891.165.

Project/Activity: Ridgeview Terrace II, Ashtabula Township, OH; Project Number: 042-HD084/OH12-Q991-005.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: August 5, 2003.

Reason Waived: Due to local opposition to the project, the sponsor had difficulty obtaining necessary approval from the local authorities to proceed with the project.

Contact: Willie Spearmon, Director, Office of Housing Assistance and Grant Administration, Department of Housing and Urban Development, 451 Seventh Street, SW., Washington, DC 20410-8000, telephone (202) 708-3000.

• Regulation: 24 CFR 891.165.

Project/Activity: Congress Street Apartments, New Port Richey, FL; Project Number: 067-HD077/FL29-Q001-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: August 6, 2003.

Reason Waived: The project was delayed due to third party opposition.

Contact: Willie Spearmon, Director, Office of Housing Assistance and Grant Administration, Department of Housing and Urban Development, 451 Seventh Street, SW., Washington, DC 20410-8000, telephone (202) 708-3000.

• Regulation: 24 CFR 891.165.

Project/Activity: North Capitol at Plymouth, Washington, DC; Project Number: 000-EE053/DC39-S001-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: August 12, 2003.

Reason Waived: Additional time was needed for the sponsor to obtain a building permit.

Contact: Willie Spearmon, Director, Office of Housing Assistance and Grant Administration, Department of Housing and Urban Development, 451 Seventh Street, SW., Washington, DC 20410-8000, telephone (202) 708-3000.

• Regulation: 24 CFR 891.165.

Project/Activity: Loretto Heritage Apartments, Syracuse, NY; Project Number: 014-HD084/NY06-Q991-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: August 13, 2003.

Reason Waived: The sponsor needed additional time to locate an alternate site and to prepare the firm commitment documents.

Contact: Willie Spearmon, Director, Office of Housing Assistance and Grant Administration, Department of Housing and Urban Development, 451 Seventh Street, SW., Washington, DC 20410-8000, telephone (202) 708-3000.

• Regulation: 24 CFR 891.165.

Project/Activity: Genesee Housing, Seattle, WA; Project Number: 127-HD028/WA19-Q011-001.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 4, 2003.

Reason Waived: Delay of the project was due to third party opposition regarding the demolition of another project.

Contact: Willie Spearmon, Director, Office of Housing Assistance and Grant Administration, Department of Housing and Urban Development, 451 Seventh Street, SW., Washington, DC 20410-8000, telephone (202) 708-3000.

• Regulation: 24 CFR 891.165.

Project/Activity: National Church Residence (NCR) of North Fairmount, Cincinnati, OH; Project Number: 046-EE056/OH10-S001-004.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 12, 2003.

Reason Waived: The project was delayed due to civil engineering revisions that were necessary as a result of the city's and EPA's requirements.

Contact: Willie Spearmon, Director, Office of Housing Assistance and Grant Administration, Department of Housing and Urban Development, 451 Seventh Street, SW., Washington, DC 20410-8000, telephone (202) 708-3000.

• Regulation: 24 CFR 891.165.

Project/Activity: Villa at Marian Park, Akron, OH; Project Number: 042-EE112/OH12-S991-005.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 17, 2003.

Reason Waived: The project was delayed because of local opposition.

Contact: Willie Spearmon, Director, Office of Housing Assistance and Grant Administration, Department of Housing and Urban Development, 451 Seventh Street, SW., Washington, DC 20410-8000, telephone (202) 708-3000.

• Regulation: 24 CFR 891.165.

Project/Activity: West Kingsbridge Senior Housing, Bronx, NY; Project Number: 012-EE212/NY36-S961-030.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 22, 2003.

Reason Waived: Additional time was needed so the owner could complete site remediation and submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Providence Gamelin House Association, Seattle, WA; Project Number: 127-EE028/WA19-S001-002.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 23, 2003.

Reason Waived: Additional time was needed to resolve a legal dispute among the Seattle Housing Authority, the landowner, and the Seattle School District.

Contact: Willie Spearmon, Director, Office of Housing Assistance and Grant Administration, Department of Housing and Urban Development, 451 Seventh Street, SW., Washington, DC 20410-8000, telephone (202) 708-3000.

• Regulation: 24 CFR 891.165.

Project/Activity: Flury Place, Elkridge, MD, Project Number: 052-HD034/MD06-Q981-003.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 23, 2003.

Reason Waived: Additional time was needed for the project to reach initial closing. The project incurred delays in obtaining the necessary building permit from Howard County.

Contact: Willie Spearmon, Director, Office of Housing Assistance and Grant Administration, Department of Housing and Urban Development, 451 Seventh Street, SW., Washington, DC 20410-8000, telephone (202) 708-3000.

• Regulation: 24 CFR 891.165.

Project/Activity: Ada S. McKinley IV, Chicago, IL; Project Number: 071-HD110/IL06-Q981-003.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 29, 2003.

Reason Waived: The sponsor needed additional time to obtain the building permits from the city of Chicago.

Contact: Willie Spearmon, Director, Office of Housing Assistance and Grant Administration, Department of Housing and Urban Development, 451 Seventh Street, SW., Washington, DC 20410-8000, telephone (202) 708-3000.

• Regulation: 24 CFR 891.165.

Project/Activity: Park View Apartments, Fort Myers, FL; Project Number: 066-EE082/FL29-S011-044.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 30, 2003.

Reason Waived: Additional time was needed for the firm commitment application to be submitted and for HUD to review the partial release of security from the adjacent Section 811 project.

Contact: Willie Spearmon, Director, Office of Housing Assistance and Grant Administration, Department of Housing and Urban Development, 451 Seventh Street, SW., Washington, DC 20410-8000, telephone (202) 708-3000.

• Regulation: 24 CFR 891.165.

Project/Activity: Hall Commons, Bridgeport, CT; Project Number: 017-EE063/CT26-S001-006.

Nature of Requirement: Section 891.165 provides that the duration of the fund reservation for the capital advance is 18 months from the date of issuance with limited exceptions up to 24 months, as approved by HUD on a case-by-case basis.

Granted By: John C. Weicher, Assistant Secretary for Housing—Federal Housing Commissioner.

Date Granted: September 30, 2003.

Reason Waived: Additional time was needed for the city to complete the clean-up of the oil contamination on the site.

Contact: Willie Spearmon, Director, Office of Housing Assistance and Grant Administration, Department of Housing and Urban Development, 451 Seventh Street, SW., Washington, DC 20410-8000, telephone (202) 708-3000.

• Regulation: 24 CFR 891.205.

Project/Activity: Timber Lawn Place, Jackson, MS; Project Number: 026-EE034/MS26-S011-003.

Nature of Requirement: Section 891.205 requires Section 202 project owners to have tax-exempt status under Section 501(c)(3) or (c)(4) of the Internal Revenue Code prior to initial closing.

Granted By: John C. Weicher, Assistant Secretary for Housing—Federal Housing Commissioner.

Date Granted: September 24, 2003.

Reason Waived: The Internal Revenue Services was expected to issue the required tax-exemption ruling soon.

Contact: Willie Spearmon, Director, Office of Housing Assistance and Grant Administration, Department of Housing and Urban Development, 451 Seventh Street, SW., Washington, DC 20410-8000, telephone (202) 708-3000.

• Regulation: 24 CFR 891.205.

Project/Activity: Gates Gardens, Brooklyn, NY; Project Number: 012-EE312/NY36-S011-006.

Nature of Requirement: Section 891.205 requires Section 202 project owners to have tax-exempt status under Section 501(c)(3) or (c)(4) of the Internal Revenue Code prior to initial closing.

Granted By: John C. Weicher, Assistant Secretary for Housing—Federal Housing Commissioner.

Date Granted: September 24, 2003.

Reason Waived: The Internal Revenue Service was expected to issue the required tax-exemption ruling within six months of the initial closing of the project.

Contact: Willie Spearmon, Director, Office of Housing Assistance and Grant Administration, Department of Housing and Urban Development, 451 Seventh Street, SW., Washington, DC 20410-8000, telephone (202) 708-3000.

• Regulation: 24 CFR 891.310(b)(1) and (b)(2).

Project/Activity: Share X, East Patchogue, NY; Project Number: 012-HD108/NY36-Q011-005.

Nature of Requirement: Section 891.310(b)(1) requires that all entrances, common areas, units to be occupied by resident staff, and amenities must be readily accessible to and usable by persons with disabilities. Section 891.310(b)(2) requires that in projects for chronically mentally ill individuals, a minimum of 10 percent of all dwelling units in an independent living facility (or 10 percent of all bedrooms and bathrooms in a group home, but a least one of each such space) must be designed to be accessible or adaptable for persons with disabilities.

Granted By: John C. Weicher, Assistant Secretary for Housing—Federal Housing Commissioner.

Date Granted: September 24, 2003.

Reason Waived: The project consists of the rehabilitation of four group homes for independent living for the chronically mentally ill, each serving three residents. One home will be fully accessible. The sponsor indicated that, of the 300 individuals they served at over 150 sites, few residents required the use of accessible housing.

Contact: Willie Spearmon, Director, Office of Housing Assistance and Grant Administration, Department of Housing and Urban Development, 451 Seventh Street, SW., Washington, DC 20410-8000, telephone (202) 708-3000.

• Regulation: 24 CFR 891.410(c).

Project/Activity: Donald Sykes Villa, Stratford, WI; Project Number: 075-EE079-NP/WAH.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: July 16, 2003.

Reason Waived: The Milwaukee Multifamily Program Center requested permission to waive the age requirements applicable to the subject property, enabling the owner/managing agent to rent to non-elderly applicants between the ages of 55 and 62 years. The granting of this waiver provided accessible housing for these applicants and allowed the owner flexibility to rent its vacant units and achieve full occupancy so the project would not fail. The waiver is effective for one year after the date of approval.

Contact: Beverly J. Miller, Director, Office of Asset Management, Department of Housing and Urban Development, 451 Seventh Street, SW., Room 6160, Washington, DC 20410-7000, telephone (202) 708-3730.

• Regulation: 24 CFR 891.410(c).

Project/Activity: Casa Retirement Center, Casa, AR; Project Number: 082-EE016.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include at least one person who is at least 62 years of age at the time of initial occupancy.

Granted by: John C. Weicher, Assistant Secretary for Housing—Federal Housing Commissioner.

Date Granted: July 18, 2003.

Reason Waived: The Fort Worth Multifamily Hub requested permission for a waiver of the age requirement and a reduction of the income requirement from very low-income to low income. Despite active marketing through media such as newspapers, churches, flyers, and referral to housing authorities, units remained vacant. This waiver allowed the property to be rented to non-elderly persons between the ages of 55 and 62 years and allowed applicants to meet the low-income eligibility requirements. This, in turn, allowed the owner additional flexibility in its attempt to rent these vacant units and perhaps start a waiting list. In addition, these waivers did not deprive any currently eligible person of affordable rental housing. This waiver was granted for one year from the date of approval.

Contact: Beverly J. Miller, Director, Office of Asset Management, Department of Housing and Urban Development, 451 Seventh Street, SW., Room 6160, Washington, DC 20410-7000, telephone (202) 708-3730.

• Regulation: 24 CFR 891.410(c).

Project/Activity: John Davis Manor Apartments, Patterson, AR; Project Number: 082-EE096.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: July 21, 2003.

Reason Waived: The Fort Worth Multifamily Hub requested permission to waive the age and income requirements for this project. The property was experiencing difficulty renting up and maintaining sustaining occupancy. The owner needed flexibility to rent unoccupied units to alleviate the current financial problems at the project. This waiver allowed the property to admit applicants who did not meet the definition of very low-income elderly persons. The property was allowed to rent to low-income families who were not elderly but were between the ages of 50 and 62 years. These efforts would arrest the current financial drain and attempt to prevent foreclosure of the property. The waiver is in effect for one year from the date of approval.

Contact: Beverly J. Miller, Director, Office of Asset Management, Department of Housing and Urban Development, 451 Seventh Street, SW., Room 6160, Washington, DC 20410-7000, telephone (202) 708-3730.

• Regulation: 24 CFR 891.410(c).

Project/Activity: The Maples II, Hillsboro, OR; Project Number: 126-EE030.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing—Federal Housing Commissioner.

Date Granted: August 20, 2003.

Reason Waived: The Northwest/Alaska Multifamily Hub requested permission to waive the age requirements of the subject property. The owner/managing agent of the subject project had requested a waiver of the elderly requirements, because the property manager was unfamiliar with the admission requirements for the Section 202 Housing for the Elderly program, admitted seven ineligible handicapped residents, and signed leases with two additional ineligible handicapped families. The owner/managing agent had requested permission to continue to provide housing to the nine ineligible residents or families. The owner/managing agent of this property may continue to house the nine ineligible handicapped residents. Upon relocation of any ineligible resident or family, the owner must accept only eligible applicants. This waiver is effective for one year from date of approval.

Contact: Beverly J. Miller, Director, Office of Asset Management, Department of Housing and Urban Development, 451 Seventh Street, SW., Room 6160, Washington, DC 20410-7000, telephone (202) 708-3730.

III. Regulatory Waivers Granted By the Office of Public and Indian Housing

For further information about the following regulatory waivers, please see the name of the contact person that immediately follows the description of the waiver granted.

• Regulation: 24 CFR 761.30

Project/Activity: Request submitted by the Reno Sparks Indian Colony (RSIC), located in Reno, Nevada, for a one-year extension of its Fiscal Year (FY) 2000 Indian Housing Drug Elimination Program (IHDEP) Grant.

Nature of Requirement: The regulations at 24 CFR 761.30 allow the area Office of Native American Programs (ONAP) to grant a six-month extension beyond the original grant period, if the request is submitted prior to the termination of the grant. However, only through a waiver of the regulatory requirement may extensions of time beyond the regulatory six-month period be granted.

Granted By: Michael Liu, Assistant Secretary for Public and Indian Housing.

Date Granted: July 7, 2003.

Reason Waived: The RSIC experienced delays related to winter storms. In addition, Section 6 of Executive Order 13175, “Executive Order on Consultation and Cooperation with Tribal Governments,” of November 6, 2000, requires HUD to consider applications for regulatory waivers with a general view of increasing opportunities for utilizing flexible policy approaches.

Contact: Deborah Lalancette, Director, Grants Management, Denver Program ONAP, Department of Housing and Urban Development, 1999 Broadway, Suite 3390, Denver, CO 80202-5733, telephone (303) 675-1625.

• Regulation: 24 CFR 761.30

Project/Activity: Request submitted by the Calista Corporation, located in Anchorage, Alaska, for an additional time extension of its FY 2000 IHDEP Grant.

Nature of Requirement: The regulations at 24 CFR 761.30 allow the area ONAP to grant a six-month extension beyond the original grant period if the request is submitted prior to the termination of the grant. However, only through a waiver of the regulatory requirement may extensions of time beyond the regulatory six-month period be granted.

Granted By: Michael Liu, Assistant Secretary for Public and Indian Housing.

Date Granted: July 16, 2003.

Reason Waived: The Program Director for the grant resigned early in 2003, complicating coordination of grant activities. In addition, the Calista Elders Council, the grant subrecipient, experienced delays in project implementation due to a move from Anchorage to Bethel and difficulties in hiring a project coordinator.

Contact: Deborah Lalancette, Director, Grants Management, Denver Program ONAP, Department of Housing and Urban Development, 1999 Broadway, Suite 3390, Denver, CO 80202, telephone (303) 675-1625.

• Regulation: 24 CFR 905.10.

Project/Activity: City of Columbia (Missouri) Housing Authority.

Nature of Requirement: Section 905.10 requires replacement housing factor (RHF) funds to be used to provide public housing rental replacement housing. The regulation limits RHF funds to rental replacement housing and does not include homeownership housing.

Granted By: Michael Liu, Assistant Secretary for Public and Indian Housing.

Date Granted: August 12, 2003.

Reason Waived: The housing authority requested a waiver of the regulation in order to use RHF funds for homeownership activities, as provided in section 9(d)(1)(J) of the U.S. Housing Act of 1937. The use of RHF funds for homeownership activities is permitted by statute and consistent with HUD's mission.

Contact: William C. Thorson, Director, Office of Capital Improvements, Office of Public and Indian Housing, Department of Housing and Urban Development, 451 Seventh Street, SW., Room 4210, Washington, DC 20410-5000, telephone (202) 708-1640.

• Regulation: 24 CFR 941.102(a)(2).

Project/Activity: Wilmington (Delaware) Housing Authority.

Nature of Requirement: A public housing agency (PHA) may develop new public housing by using the turnkey method. Developers must provide the site, design, and program financing. The PHA pays the turnkey developer upon completion of construction and acceptance.

Granted By: Michael Liu, Assistant Secretary for Public and Indian Housing.

Date Granted: July 14, 2003.

Reason Waived: The PHA would be able to achieve substantial cost savings by using an existing site and providing direct funding to the contractor during construction.

Contact: William C. Thorson, Director, Office of Capital Improvements, Office of Public and Indian Housing, Department of Housing and Urban Development, 451 Seventh Street, SW., Room 4210, Washington, DC 20410-5000, telephone (202) 708-1640.

• Regulation: 24 CFR 941.606(n)(1)(ii)(B).

Project/Activity: Metropolitan Gardens HOPE VI Project AL09URD001I197, Birmingham, AL.

Nature of Requirement: The provision requires that, if the partner or owner entity (or any other entity with an identity of interest with such parties) wants to serve as a general contractor for the project or development, it may award itself the construction contract only if it can demonstrate to HUD's satisfaction that its bid is the lowest submitted in response to a public request for bids.

Granted By: Michael Liu, Assistant Secretary for Public and Indian Housing.

Date Granted: September 3, 2003.

Reason Waived: The waiver was approved in order for Integral/Doster Metropolitan Gardens Construction LLC to complete Phase I of the Metropolitan Gardens project. The construction cost provided by Integral/Doster is $14,263,429, which is $59,963 lower than the independent estimator's cost estimate of $14,323,392, therefore satisfying HUD's condition that the construction contract be less than or equal to the independent cost estimate.

Contact: Milan Ozdinec, Deputy Assistant Secretary, Office of Public Housing Investments, Department of Housing and Urban Development, 451 Seventh Street, SW., Washington, DC 20410-5000, telephone (202) 401-8812.

• Regulation: 24 CFR 982.207(b)(3) and 983.203(a)(3).

Project/Activity: Dartmouth Hotel project, Boston Housing Authority (BHA), Boston, MA. The BHA requested a waiver to permit a selection preference for homeless persons who have a serious and persistent mental illness that is severe enough to interfere with one or more activities of daily living.

Nature of Requirement: The regulation at 24 CFR 982.207(b)(3) States that a housing agency may adopt a preference for admission of families that include a person with disabilities, but may not adopt a preference for persons with a specific disability. The regulation at 24 CFR 983.203(a)(3) prohibits site-specific waiting lists under the project-based assistance (PBA) program.

Granted By: Michael Liu, Assistant Secretary for Public and Indian Housing.

Date Granted: September 26, 2003.

Reason Waived: The BHA demonstrated that separate housing and services provided at the Dartmouth Hotel would enable the target population to have the same opportunity as others to enjoy the benefits of secure affordable housing. Without units designated for the target population, they would not be able to maintain their position on the BHA's tenant-based or project-based waiting list due to not having a fixed address, not understanding materials sent to them, and frequent hospitalizations. The target population would also not be successful in the housing search process, even if a voucher were issued, due to the stigma associated with mental illness, lack of landlord references, and bad credit. To ensure that the target population would be housed at the Dartmouth Hotel, for which its occupancy was intended, the BHA must maintain a PBA site-specific waiting list for this project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of Washington County (HAWC), Hillsboro, OR. The HAWC requested an exception payment standard that exceeded 120 percent of the fair market rent as a reasonable accommodation for a housing choice voucher participant who was elderly and nearly blind.

Nature of Requirement: 24 CFR 982.505(d) allows a PHA to approve a higher payment within the basic range for a family that includes a person with disabilities as a reasonable accommodation in accordance with 24 CFR part 8.

Granted By: Michael Liu, Assistant Secretary for Public and Indian Housing.

Date Granted: August 19, 2003.

Reason Waived: Approval of the waiver was granted to allow the participant to continue to lease the space for her manufactured home near her son who assisted her with daily living activities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Arlington County Department of Human Services (ACDHS), Arlington, VA. The ACDHS requested an exception payment standard that exceeded 120 percent of the fair market rent as a reasonable accommodation for a housing choice voucher participant who suffered from multiple medical conditions.

Nature of Requirement: 24 CFR 982.505(d) allows a PHA to approve a higher payment within the basic range for a family that includes a person with disabilities as a reasonable accommodation in accordance with 24 CFR part 8.

Granted By: Michael Liu, Assistant Secretary for Public and Indian Housing.

Date Granted: August 18, 2003.

Reason Waived: Approval of the waiver was granted to allow the participant to locate suitable housing to enable her to maintain her health and live independently.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: King County Housing Authority (KCHA), Seattle, WA. The KCHA requested an exception payment standard that exceeded 120 percent of the fair market rent as a reasonable accommodation for a housing choice voucher participant who has developmental disabilities.

Nature of Requirement: 24 CFR 982.505(d) allows a PHA to approve a higher payment within the basic range for a family that includes a person with disabilities as a reasonable accommodation in accordance with 24 CFR part 8.

Granted By: Michael Liu, Assistant Secretary for Public and Indian Housing.

Date Granted: July 21, 2003.

Reason Waived: Approval of the waiver was granted to allow a housing choice voucher participant to continue to lease the manufactured home lot space where he then lived and received supportive services and training in life skills. Any disruption in his daily routine would have caused a hardship on the participant.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA. The HACLA requested an exception payment standard that exceeded 120 percent of the fair market rent as a reasonable accommodation for a housing choice voucher participant that had congenital glaucoma and severe trauma to her left eye.

Nature of Requirement: 24 CFR 982.505(d) allows a PHA to approve a higher payment within the basic range for a family that includes a person with disabilities as a reasonable accommodation in accordance with 24 CFR part 8.

Granted By: Michael Liu, Assistant Secretary for Public and Indian Housing.

Date Granted: July 18, 2003.

Reason Waived: Approval of the waiver was granted to allow a housing choice voucher participant to lease her current unit with the necessary services. The building has an elevator, which is essential because she cannot negotiate stairs. Also, she is familiar with the area in which she lives.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(D).

Project/Activity: Housing Authority of the City of Los Angeles (HACLA), Los Angeles, CA. The HACLA requested an exception payment standard that exceeded 120 percent of the fair market rent as a reasonable accommodation for two families participating in the housing choice voucher program.

Nature of Requirement: 24 CFR 982.505(d) allows a PHA to approve a higher payment within the basic range for a family that includes a person with disabilities as a reasonable accommodation in accordance with 24 CFR part 8.

Granted By: Michael Liu, Assistant Secretary for Public and Indian Housing.

Date Granted: July 18, 2003.

Reason Waived: Approval of the waiver was granted to allow the families to lease their current units because it would allow them to maintain their health and live independently.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Boston Housing Authority (BHA), Boston, MA. The BHA requested an exception payment standard that exceeded 120 percent of the fair market rent as a reasonable accommodation for a housing choice voucher participant who was quadriplegic and suffered from increased autonomic dysreflexia.

Nature of Requirement: 24 CFR 982.505(d) allows a PHA to approve a higher payment within the basic range for a family that includes a person with disabilities as a reasonable accommodation in accordance with 24 CFR part 8.

Granted By: Michael Liu, Assistant Secretary for Public and Indian Housing.

Date Granted: July 17, 2003.

Reason Waived: Approval of the waiver was granted to allow the participant to locate suitable housing to enable him to live independently.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: Miami-Dade Housing Agency (MDHA), Miami, FL. The MDHA requested exceptions to the initial guidance to permit it to attach PBA to the following projects in census tracts with high poverty rates: Tequesta Knoll Apartments, Florida City Apartments, Villages of Naranja, Park City Apartments, and Miami River Apartments.

Nature of Requirement: Section II, subpart E, of the initial guidance requires that in order to meet the Department's goal of deconcentration and expanding housing and economic opportunities, the projects must be in census tracts with poverty rates of less than 20 percent.

Granted By: Michael Liu, Assistant Secretary for Public and Indian Housing.

Date Granted: July 7, 2003.

Reason Waived: Approval of the exception for deconcentration was granted for Tequesta Knoll Apartments, Florida City Apartments, and Miami River Apartments, since the projects were located in a HUD-designated Empowerment Zone, the purpose of which is to open new businesses and create jobs, housing, and new educational and healthcare opportunities for thousands of Americans.

Approval was granted for Villages of Naranja, since 439 private market-rate single-family homes would be developed in the census tract. In addition, boat building and general construction companies have either opened new businesses or relocated to the area, thus expanding economic opportunities.

Approval was granted for Park City Apartments, since Safire Aircraft Company would be opening its headquarters at the Opa-locka Airport, which is within five miles of the project, thereby creating over 1,000 jobs over the next three years.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: Indianapolis Housing Authority (IHA), Indianapolis, IN. The IHA requested an exception to the initial guidance to permit it to attach PBA to Mozel Saunders, a project located in a census tract with a poverty rate of 34.1 percent.

Nature of Requirement: Section II, subpart E, of the initial guidance requires that in order to meet the Department's goal of deconcentration and expanding housing and economic opportunities, the projects must be in census tracts with poverty rates of less than 20 percent.

Granted By: Michael Liu, Assistant Secretary for Public and Indian Housing.

Date Granted: July 15, 2003.

Reason Waived: Approval of the exception for deconcentration was granted, since (1) 34 units would be demolished and another 45 units were proposed for demolition where none had been proposed before, (2) only 25 percent of the units would have PBA attached, and (3) the remaining 75 percent of the units would be rented at market rate rents. The net reduction of low-income housing units in the census tract combined with an increase in the percentage of market rate units in the project is consistent with the goal of deconcentrating poverty.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: Massachusetts Department of Housing and Community Development (MDHCD), Boston, MA. The MDHCD requested an exception to the initial guidance to permit it to attach PBA to Casa Maribel, a project located in a census tract in the City of Chelsea.

Nature of Requirement: Section II, subpart E, of the initial guidance requires that in order to meet the Department's goal of deconcentration and expanding housing and economic opportunities, the projects must be in census tracts with poverty rates of less than 20 percent.

Granted By: Michael Liu, Assistant Secretary for Public and Indian Housing.

Date Granted: July 15, 2003.

Reason Waived: Approval of the exception for deconcentration was necessary, since the 1990 census poverty rate was 25 percent. In addition to the fact that the poverty rate had declined almost four percentage points since the last census, housing prices had increased 57 percent in the preceding two years, and rental costs had increased as well. Economic development and job creation was demonstrated in the relocation or expansion of three companies.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: Orange County Department of Housing and Community Development (OCDHCD), Carrboro, NC. The OCDHCD was seeking an exception to the initial guidance to attach PBA to Club Nova Apartments for extremely low-income persons with disabilities. According to the documentation provided by Club Nova Apartments LLC, it does not intend to target a specific disability.

Nature of Requirement: Section II subpart E of the Initial Guidance requires that all new PBA agreements or housing assistance payments (HAP) contracts be for units in census tracts with poverty rates of less than 20 percent, unless HUD specifically approves an exception.

Granted By: Michael Liu, Assistant Secretary for Public and Indian Housing.

Date Granted: September 12, 2003.

Reason Waived: Club Nova Apartments is located in census tract 107.3 with a poverty rate of 23.3 percent. Census tract 107.3 is adjacent to the University of North Carolina at Chapel Hill and, according to Club Nova Apartments LLC, had a disproportionately high population of university students, both undergraduate and graduate. The low income of these residents during their period of higher education distorted the incidence of poverty that showed up in this census tract. Club Nova Apartments LLC believed that a significant amount of these students were included in the number reporting income below the poverty level and, since students were transient in their geography and their economic status, should not be included in the poverty rate calculation. Excluding 1,154 students from the 1,184 individuals reporting income below the poverty level brought down the poverty rate to less than 1 percent. Since the adjusted poverty rate in census tract 107.3 would be below 20 percent, an exception was granted.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: Chicago Housing Authority (CHA), Chicago, IL. The CHA requested an exception to the initial guidance to permit it to attach PBA to Evergreen Towers II Senior Housing Development.

Nature of Requirement: Section II, subpart E, of the initial guidance requires that in order to meet the Department's goal of deconcentration and expanding housing and economic opportunities, the projects must be in census tracts with poverty rates of less than 20 percent.

Granted By: Michael Liu, Assistant Secretary for Public and Indian Housing.

Date Granted: September 22, 2003.

Reason Waived: Approval of the exception for deconcentration was granted, since census data updated in 2003 indicated that the poverty level of the census tract had decreased due to private market activity and commercial development. In addition, the 134 units in the Cabrini Green building that was in the same census tract would be demolished in 2005, further reducing the number of low-income families in the census tract. There would not be one-for-one replacement of the demolished public housing units, and any new public housing units would be placed within mixed income developments.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: Housing Authority of the City of Atlanta (HACA), Atlanta, GA. The HACA requested exceptions to the initial guidance to permit it to attach PBA to the following projects in census tracts with high poverty: Atlanta Station, Columbia Highlands Senior Residence, Columbia at Sylvan Hills, Northside Village Apartments, Renaissance at Kings, and Terrace at Cornerstone.

Nature of Requirement: Section II, subpart E, of the initial guidance requires that in order to meet the Department's goal of deconcentration and expanding housing and economic opportunities, the projects must be in census tracts with poverty rates of less than 20 percent.

Granted By: Michael Liu, Assistant Secretary for Public and Indian Housing.

Date Granted: September 25, 2003.

Reason Waived: Approval of the exception to deconcentration was granted for Atlanta Station, since it will be located in the Village section of the Atlantic Station Brownfield redevelopment site. The entire project is a 140-acre environmental development of the former Atlantic Steel Mill in midtown Atlanta. Upon completion, the new community will include 12 million square feet of retail, office, residential, and hotel space, as well as 11 acres of public parks. It is anticipated that there will be between 3,000 and 5,000 new residential units for both rental and homeownership.

Approval was granted for Columbia Highlands Senior Residence, since this project is an integral part of the larger West Highlands at Heman E. Perry Boulevard community revitalization, an HACA HOPE VI project. The purpose of the HOPE VI program is to transform public housing which includes changing the physical shape of public housing; establishing positive incentives for resident self-sufficiency and comprehensive services that empower residents; lessening concentrations of poverty by placing public housing in non-poverty neighborhoods and promoting mixed-income communities; and forging partnerships with other agencies, local governments, nonprofit organizations, and private businesses to leverage support and resources. Toward that end, 1,072 public housing units have been demolished and will be replaced with 556 public housing units, 212 low-income housing tax credit units, 632 market rate units, 40 affordable homeownership units, and 210 market rate homeownership units.

Approval was granted for Columbia at Sylvan Hills, since the project is located in one of the fastest growing areas in the city of Atlanta with sales prices of single-family homes more than doubling in the past five years. The project will be the first phase of a transit-orientated development at the Lakewood-Ft. McPherson Metropolitan Atlanta Rapid Transportation Authority (MARTA site). Pedestrian access will be provided from the development to the MARTA station. Further development around the project will consist of an office and retail building adjacent to the site.

Approval was granted for Northside Village Apartments, since the development is part of Phase I of the redevelopment effort in this area of Atlanta. Phase I will include approximately 4,000 square feet of retail space on Northside Drive thereby providing new economic opportunities. Future development plans within a half-mile of Northside Village include the Georgia Aquarium and Centennial Olympic Park, a 500-unit condominium housing development.

Approval was granted for Renaissance at Kings Ridge, since six hundred substandard apartments that housed low-income families were demolished several years ago in the Kings Ridge Development area. Information was not available regarding the exact income mix of the families that occupied these demolished units. However, they will be replaced with approximately 300 to 400 rental and homeownership units, of which Renaissance at Kings Ridge is a part. The only low-income component of the 300 to 400 replacement housing units will be the 48 PBA units.

Approval was granted for Terrace at Cornerstone, since the development will be located in the West End neighborhood, which is located two miles southwest of Atlanta's downtown central business district. The project will feature apartments above retail that should provide economic opportunities for the resident families. There are future development plans for the community that will allow for both retail and housing development.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

[FR Doc. 04-5316 Filed 3-10-04; 8:45 am]

BILLING CODE 4210-32-P